FEDERAL ELECTION COMMISSION

Sunshine Act Meetings

AGENCY: Federal Election Commission.

DATE and TIME: Thursday, September 17, 2015 at 10:00 a.m.

PLACE: 999 E Street NW., Washington, DC (Ninth Floor).

STATUS: This Meeting Will Be Open To The Public.

Federal Register Notice of Previous Announcement—80 FR 55115

This item was also discussed:

Second Motion to Set Priorities and Scheduling on Pending Enforcement Matters Awaiting Reason-to-Believe Consideration

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shelley E. Garr,
Deputy Secretary of the Commission.

[FR Doc. 2015-24047 Filed 9-17-15; 4:15 pm]

BILLING CODE 6715-01-P